PEACE CORPS

Proposed Information Collection

ACTION: 60-Day notice and request for comments.

SUMMARY: The Peace Corps will submit the following information collection request to the Office of Management and Budget (OMB) for approval of reinstatement, without change of a previously approved collection which has expired. In compliance with the Paperwork Reduction Act of 1995 (44 U.S.C. Chapter 35), the Peace Corps invites the general public to comment on this request for approval of reinstatement, without change of a previously approved collection which has expired. This process is conducted in accordance with 5 CFR 1320.10.

DATES: Comments must be submitted on or before July 5, 2011.

ADDRESSES: Comments should be addressed to Denora Miller, FOIA Officer, Peace Corps, 1111 20th Street, NW., Washington, DC 20526. Denora Miller can be contacted by telephone at 202-692-1236 or e-mail at pcfr@peacecorps.gov. E-mail comments must be made in text and not in attachments.

FOR FURTHER INFORMATION CONTACT: Denora Miller at Peace Corps address above.

SUPPLEMENTARY INFORMATION: OMB Control Number: 0420-0537.

Title: Fellows/USA Program Improvement Survey.

Type of Request: Reinstatement, without change, of a previously approved collection which has expired.

Respondents: 1,000.

Respondents Obligation to Reply: Returned Peace Corps Volunteers.

Burden to the Public:

a. Estimated annual number of respondents: 1,000.

b. Estimated average time to respond: 7 minutes.

c. Estimated total annual burden hours: 117 hours.

d. Frequency of response: One time.

e. Estimated cost to respondents: $0.00.

General description of collection: The Peace Corps Fellows/USA provides opportunities for returned Peace Corps Volunteers to pursue graduate education while working in schools and underserved communities. The purpose of this information collection is to identify areas of the Fellows/USA program that need improvement and better meet the educational needs of inquirers. The survey seeks to discover the reasons why inquirers who have taken the time to contact the Peace Corps for information on the Fellows/USA program have not eventually enrolled.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on May 2, 2011.
Garry W. Stanberry,
Deputy Associate Director, Management.

[FR Doc. 2011-10795 Filed 5-3-11; 8:45 am]

BILLING CODE 6051-01-P